DEPARTMENT OF DEFENSE

Office of the Secretary

Announcement of Federal Funding Opportunity

AGENCY: Office of Economic Adjustment (OEA), Department of Defense.

ACTION: Federal funding opportunity announcement.

SUMMARY: As the Department of Defense (DoD) seeks to implement the National Defense Strategy by increasing our military capabilities and enhancing the lethality and readiness of our forces, it is in our Nation's best interests for states and communities around the nation to collaborate with our local installation's leadership to: Address instances where civilian activities may impair the utility of local installations; and ensure local civilian development does not negatively impact our missions, test facilities, and training ranges. In addition, local communities have the opportunity through development initiatives to enhance the military value and security of our bases and provide for the quality of life for our troops and their families. The purpose of the program is to enhance the operational utility of installations through a series of installation-community engagements that will identify and carry out civilian actions to improve the readiness and lethality of the force. These engagements allow the Department to utilize the particular civilian expertise that can be found across states and communities to augment our local missions' efforts to improve the combat capability of our forces while leveraging the comparative advantages these civilian partners can provide to support the Department's efforts.

This notice announces an opportunity to request funding from the Office of Economic Adjustment (OEA), a DoD Field Activity, for community planning assistance to assist states and communities to work with their local military installations to promote and guide civilian development and activities which are compatible and support the long-term readiness and operability of military installations, ranges, special use air space, military operation areas, and military training routes. Many installations have recently updated their installation master plans and encroachment management plans. If a community has not completed a Compatible Use Plan or Joint Land Use Study in the last five years, they should consider the benefits of conducting one.

FOR FURTHER INFORMATION CONTACT: David Kennedy, Compatible Use, Office of Economic Adjustment. Office: (703) 697-2136. Email: david.r.kennedy.civ@mail.mil.

SUPPLEMENTARY INFORMATION: a. Federal Awarding Agency: Office of Economic Adjustment, Department of Defense.

b. Funding Opportunity Title: Community Economic Adjustment Assistance for Compatible Use Plans.

c. Announcement Type: Federal Funding Opportunity.

d. Catalog of Federal Domestic Assistance (CFDA) Number & Title: 12.610: Community Economic Adjustment Assistance for Compatible Use Plans.

e. Key Dates: Proposals will be considered on a continuing basis. OEA will evaluate all proposals, and provide a response to the respondent within 30 business days of its receipt of a final and complete proposal.

I. Period of Funding Opportunity

Proposals will be considered on a continuing basis, subject to the availability of appropriations, commencing on the date of publication of this notice.

II. Funding Opportunity

a. Program Description

OEA is a DoD Field Activity authorized under 10 U.S.C. 2391 to provide assistance to state or local governments, and entities of state and local governments, including regional governmental organizations, to plan and carry out activities required by the encroachment of a civilian community on a military installation if the Secretary determines that the encroachment of the civilian community is likely to impair the continued operational utility of the military installation.

OEA's Compatible Use Program provides technical and financial assistance to state and local governments to plan and carry out civilian actions necessary to alleviate and/or prevent incompatible civilian development and other civilian activities that are likely to impair the continued operational utility of a DoD installation or facility. The program enables states and communities to assist local installations to optimize their mission—support lethality, and enhance the readiness and military value of their local installations. This program promotes: Compatible civilian development and activities in support of the local mission at the installation; preserves and protects the public health, safety, and general welfare; enhances the security of installation missions: Protects and preserves military readiness and quality of life; and enhances civilian, and military communications, and collaboration as the Department seeks to carry out the National Defense Strategy.

OEA is accepting proposals for grant assistance to develop compatible use strategies and/or plans to promote civilian development compatible with continued operational utility of a DoD installation, range, special use air space, military operations area, and/or military training routes from: States, counties, and municipalities; other political subdivisions of a state; special purpose units of a state or local government; other instrumentalities of a state or local government; and tribal nations. In addressing encroachment, grantees may at the same time develop initiatives to enhance the security and resiliency of a military installation.

Eligible activities may include, but are not limited to: “Compatible Use Plans” to comprehensively understand concerns and opportunities, and to develop a responsive strategy and action plan; preparation of land use ordinances; analysis and dissemination of information; timely consultation and cooperation among DoD, state and local governments, and other stakeholders; coordinated interagency and intergovernmental assistance; technical and financial studies; clearinghouses or websites to exchange information among federal, state, and local efforts; resolution of regulatory issues impeding the support of compatibility measures; drafting of state legislation; feasibility studies; integration of the Department's Military Aviation and Installation Assurance Siting Clearinghouse procedures with local/state reviews; development of follow-on open space/easement opportunities for the Department's Readiness and Environmental Protection Integration (REPI) Program; and other innovative approaches.

These potentially eligible activities may be undertaken to respond to current, future, or potential areas or incidences of encroachment upon installations and ranges, including: Energy project siting; incompatible development in aircraft runway clear and accident potential zones; light pollution; urban growth; noise; electromagnetic spectrum interference; protection from a threat of unmanned aerial and underwater vehicles; vertical obstructions; incompatible use of land, air, and water resources; cyber vulnerabilities; and, the management of endangered species.

Proposals will be evaluated by OEA staff against the eligibility criteria provided in Section IIc of this notice and the selection criteria provided in Section IIe of this notice. The evaluation process may include coordination as deemed appropriate by OEA with representatives from the Military Departments, Military Aviation and Installation Assurance Siting Clearinghouse, and other relevant Office of Secretary of Defense and DoD entities, and other Federal agencies including the Federal Aviation Administration, and Department of Energy. OEA will notify the respondent within thirty (30) days of proposal receipt, or as soon as practical, whether their proposal is successful. The successful respondent will then be invited to submit an application. Additional details about the review and selection process are provided in Section IIe of this notice. The final award will be determined by OEA based upon a review of a final grant application, and will be subject to the availability of appropriated funds.

b. Federal Award Information

Awards under this Federal Funding Opportunity will be issued in the form of a grant agreement. In accordance with 31 U.S.C. 6304, a grant is defined as the legal instrument reflecting a relationship between the United States Government and a state, a local government, or other recipient when:

(1) The principal purpose of the relationship is to transfer a thing of value to the state or local government or other recipient to carry out a public purpose of support or stimulation authorized by a law of the United States instead of acquiring (by purchase, lease, or barter) property or services for the direct benefit or use of the United States Government; and

(2) Substantial involvement is not expected between the executive agency and the state, local government, or other recipient when carrying out the activity contemplated in the agreement.

c. Eligibility Information

Awards resulting from this Federal Funding Opportunity are based on eligibility and the responsiveness of proposals to military and local community interests and needs. “Military installation” includes a military facility owned and operated by any of the several States, the District of Columbia, the Commonwealth of Puerto Rico, American Samoa, Guam, the Commonwealth of the Northern Mariana Islands, or the Virgin Islands, even though the facility is not under the jurisdiction of the Department of Defense, if the Secretary of Defense determines that the military facility is subject to significant use for training by the armed forces. It includes ranges, special use air space, military operation areas, and military training routes.

(1) Eligible Respondents

States, counties, municipalities, other political subdivisions of a state; special purpose units of a state or local government; other instrumentalities of a state or local government; and tribal nations are eligible if:

(a) OEA determines there is existing or potential encroachment of a civilian origin on the local military mission; and

(b) This encroachment of civilian origin is likely to impair the continued operational utility of a military installation.

Respondents are strongly advised to review the Program Information provided under Catalog of Federal Domestic Assistance number 12.610 (Community Economic Adjustment Assistance for Compatible Use and Joint Land Use Studies).

(2) Cost Sharing or Matching

Cost sharing is required. A minimum of ten percent (10%) of the project's total proposed funding must be from non-Federal sources.

(3) Other Eligibility Information

Funding will be awarded to only one governmental entity, on behalf of a region, per installation. Therefore, proposals on the behalf of a multi-jurisdictional region should demonstrate a significant level of cooperation. Additionally, the local military installation should concur with the applicant's approach in addressing the encroachment threat and should work with and support the local effort.

In addition to this Federal Funding Opportunity process, OEA will continue to request annual Compatible Use nominations from the Military Departments.

d. Proposal and Submission Information

(1) Submission of a Proposal

Proposals may be submitted electronically via email to: oea.ncr.OEA.mbx.ffo-submit@mail.mil with a courtesy copy to david.r.kennedy.civ@mail.mil. Include “Community Economic Adjustment Assistance for Compatible Use Plans” on the subject line of the message and request delivery/read confirmation to ensure receipt.

Proposals may also be mailed or hand-delivered to: Director, Office of Economic Adjustment, 231 Crystal Drive, Suite 520, Arlington, VA 22202-3711.

Proposals will be accepted as received on a continuing basis commencing on the date of this publication in the Federal Register and processed when deemed to be a final, complete proposal. Each proposal shall consist of no more than ten (10) single-sided pages exclusive of cover sheet, transmittal letter, and/or addendum, typed in a minimum 11-point common typeface, with no less than 1″ margins, exclusive of appendices, attachments, and cover sheet and/or transmittal letter, and must include the following information:

(2) Content and Form of Proposal Submission

Each proposal submitted should include a cover or transmittal letter and accompanying text that shall consist of no more than ten (10) pages (single-sided) which must include:

(a) Point of Contact: Name, title, phone number, email address, and organization address of the respondent's primary point of contact;

(b) Actual/Potential Encroachment: A description of potential encroachment concerns within the area of DoD's test, training and military operations;

(c) Project Description: A description of the proposed project, specifically:

• How the project can promote compatible development, including how the project could prevent adverse impacts to DoD's test, training and military operations;

• How the plan area and DoD's test, training, and military operations are defined;

• How the project will capitalize on existing strengths (e.g., infrastructure, institutions, capital, etc.) within the affected area; and

• How the project would be integrated with any existing/ongoing efforts that may impact the project.

(d) Project Participants: A description of the partner jurisdictions, agencies, organizations, key stakeholders, and their roles and responsibilities to carry out the proposed project. Letters of support may be included as attachments and will not count against the ten-page limit; a letter of support from each affected military installation commander should be included;

(e) Local military involvement and support: A description of the anticipated role of the installation(s) in the plan and concurrence with the proposal;

(f) Grant Funds and Other Sources of Funds: A summary of local needs, including the need for Federal funding; an overview of all State and local funding sources, including the funds requested under this notice; financial commitments for other Federal and non-Federal funds needed to undertake the project to include acknowledgment to provide not less than 10% of the funding from non-Federal sources; a description of any other Federal funding for which the respondent has applied, or intends to apply to support this effort; and, a statement detailing how the proposal is not duplicative of other available Federal funding;

(g) Project Schedule: A sufficiently detailed project schedule, including milestones;

(h) Performance Metrics: A description of metrics to be tracked and evaluated over the course of the project to gauge performance of the project;

(i) Grants Management: Evidence of the intended recipient's ability and authority to manage grant funds; and

(j) Submission Authorization: Documentation that the Submitting Official is authorized by the respondent jurisdiction(s) and the respondent jurisdiction is an eligible entity to submit a proposal and subsequently apply for assistance. If there are multiple jurisdictions involved, an addendum can include letters of support.

To the extent practicable, OEA encourages respondents to provide data and evidence of all project merits in a form that is publicly available and verifiable. OEA reserves the right to ask any respondent to supplement the information in its proposal, but expects the proposal to be complete upon submission.

(3) Unique Entity Identifier and System for Award Management (SAM)

Each respondent is required to: (a) Provide a valid Dun and Bradstreet Universal Numbering System (DUNS) number; (b) be registered in SAM before submitting its application; and (c) continue to maintain an active SAM registration with current information at all times during which it has an active Federal award or an application or plan under consideration by a Federal awarding agency. OEA may not make a Federal award to a respondent until the respondent has complied with all applicable unique entity identifier and SAM requirements and, if a respondent has not fully complied with the requirements by the time OEA is ready to issue a Federal award, OEA may determine that the respondent is not qualified to receive a Federal award.

(4) Submission Dates and Times

Proposals will be considered on a continuing basis, subject to available appropriations, commencing on the date of publication of this notice. The end date for this program has not yet been determined. OEA will evaluate all proposals and provide a response to each respondent via email within 30 business days of OEA's receipt of a final, complete grant proposal.

(5) Funding Restrictions

The following are unallowable activities under this grant program:

• Construction;

• Demolition;

• Land Acquisition;

• The substitution or undertaking of any activity that would otherwise be undertaken by the Military Departments with MILCON or Defense-wide appropriated funding;

• Proposed activities for grants that duplicate nor replicate activities otherwise eligible for or funded through other Federal programs;

• International travel; and

• Lobbying of any sort.

OEA reserves the right to decline to fund pre-Federal award costs. Final awards may include pre-Federal award costs at the discretion of OEA; however, this must be specifically requested in the respondent's final application.

(6) Other Submission Requirements

Electronically submitted materials should be sent in Microsoft Word or Adobe Acrobat PDF format.

e. Application Review Information

(1) Selection Criteria

Upon validating respondent eligibility and the potential for how civilian development may impair the operational utility of the installation, including test and training ranges and associated military airspace, OEA will consider each of the following equally-balanced factors as a basis to invite formal grant applications:

(a) An appropriate and clear project design to address the need, problem, or issue identified;

(b) Evidence of an effective approach to ensure the project supports the continued operational utility of DoD's test, training, and military operations;

(c) The innovative quality of the proposed approach; and

(d) A reasonable, allowable, and allocable proposed budget with a non-Federal match commitment and schedule for completion of the work program specified.

(2) Review and Selection Process

All proposals will be reviewed on their individual merit by a panel of OEA staff, all of whom are Federal employees. OEA may coordinate with the appropriate Military Department, and other appropriate DoD organizational entities, as appropriate in OEA's discretion, to obtain concurrence on the proposal. OEA will notify the respondent, to the extent practical, within thirty (30) days after receipt of a proposal whether their proposal was successful. The successful respondent will then be instructed to submit an application through OEA's grants management system. OEA will assign a Project Manager to advise and assist successful respondents in the preparation of the application. Grant applications will be reviewed for their completeness and accuracy and a grant award notification will be issued, to the extent practical, within seven (7) business days from receipt of a complete application.

Unsuccessful respondents will be notified that their proposal was not selected for further action and funding, and may request a debriefing on their submitted proposal. When applicable, OEA may include information about other applicable Federal grant programs in this communication. Requests for debriefing must be submitted in writing within 3 calendar days of notification of an unsuccessful proposal.

OEA is committed to conducting a transparent financial assistance award process and publicizing information about funding decisions. Respondents are advised that their respective applications and information related to their review and evaluation may be shared publicly. Any proprietary information must be identified as such in the proposal and application. In the event of a grant award, information about project progress and related results may also be made publicly available.

f. Federal Award Administration Information

(1) Federal Award Notices

In the event a grant is ultimately awarded, the successful respondent (Grantee) will receive a notice of award in the form of a Grant Agreement, signed by the Director, OEA (Grantor), on behalf of DoD. The Grant Agreement will be transmitted electronically or, if necessary, by U.S. Mail.

(2) Administrative and National Policy Requirements

Any grant awarded under this program will be governed by the provisions of the OMB circulars and regulations applicable to financial assistance and DoD's implementing regulations in place at the time of the award. A Grantee receiving funds under this opportunity and any consultant or pass-thru entity operating under the terms of a grant shall comply with all Federal, State, and local laws applicable to its activities. Federal regulations that will apply to an OEA grant include administrative requirements and provisions governing allowable costs as stated in:

(a) 2 CFR part 200, “Uniform Administrative Requirements, Cost Principles, and Audit Requirements for Federal Awards;”

(b) 2 CFR part 1103, “Interim Grants and Cooperative Agreements Implementation of Guidance” in 2 CFR part 200, “Uniform Administrative Requirements, Cost Principles, And Audit Requirements for Federal Awards;”

(c) 2 CFR part 25, “Universal Identifier and System for Award Management;”

(d) 2 CFR part 170, “Reporting Sub-award and Executive Compensation Information;”

(e) 2 CFR part 180, OMB Guidelines to Agencies on Government-wide Debarment and Suspension (Non-procurement), as implemented by DoD in 2 CFR part 1125, Department of Defense Non-procurement Debarment and Suspension; and

(f) 32 CFR part 28, “New Restrictions on Lobbying”.

(3) Reporting

OEA requires periodic performance reports, an interim financial report for each 12 months a grant is active, and one final performance report for any grant. The performance reports will contain information on the following:

(a) Comparison of actual accomplishments to the objectives established for the period;

(b) Reasons for slippage if established objectives were not met;

(c) Additional pertinent information when appropriate;

(d) A comparison of actual and projected quarterly expenditures in the grant; and

(e) The amount of Federal cash on hand at the beginning and end of the reporting period.

The final performance report must contain a summary of activities for the entire grant period. All required deliverables should be submitted with the final performance report.

The final SF 425, “Federal Financial Report,” must be submitted to OEA within 90 days after the end of the grant.

Any grant funds actually advanced and not needed for grant purposes shall be returned immediately to OEA. Upon award, OEA will provide include a schedule for reporting periods and report due dates in the Grant Agreement.

III. Federal Awarding Agency Contacts

For further information, to answer questions, or for help with problems, contact: David Kennedy, Compatible Use, Office of Economic Adjustment, 2231 Crystal Drive, Suite 520, Arlington, VA 22202-3711. Office: (703) 697-2136. Email: david.r.kennedy.civ@mail.mil.

The OEA homepage address is: http://www.oea.gov.

IV. Other Information

a. Grant Award Documentation

Selection of an organization under this Federal Funding Opportunity does not constitute approval of a grant for the proposed project as submitted. Before any funds are awarded, OEA may enter into negotiations about such items as program components, staffing and funding levels, and administrative systems in place to support implementation of the award. The amount of available funding may require the final award amount to be less than that originally proposed by the respondent. If the negotiations do not result in a mutually acceptable submission, OEA reserves the right to terminate the negotiations and decline to fund a resulting application. OEA further reserves the right not to fund any proposal received under this Federal Funding Opportunity.

In the event OEA approves an amount that is less than the amount proposed, the respondent will be required to modify its grant application to conform to the reduced amount before execution of the grant agreement. OEA reserves the right to reduce or withdraw the award if acceptable modifications are not submitted by the respondent within 15 working days from the date the request for modification is made. Any modifications must be within the scope of the original application and approved by both the respondent and OEA. OEA reserves the right to cancel any award for non-performance.

b. No Obligation for Future Funding

Amendment or renewal of an award to increase funding or to extend the period of performance is at the discretion of OEA.

Dated: July 30, 2019.
Aaron T. Siegel,
Alternate OSD Federal Register Liaison Officer, Department of Defense.

[FR Doc. 2019-16619 Filed 8-2-19; 8:45 am]

BILLING CODE 5001-06-P